DEPARTMENT OF TRANSPORTATION

Federal Aviation Administration

Membership in the National Parks Overflights Advisory Group

AGENCIES: Federal Aviation Administration, DOT and National Park Service, Interior.

ACTION: Notice.

SUMMARY: The National Park Service (NPS) and the Federal Aviation Administration (FAA), as required by the National Parks Air Tour Management Act of 2000, established the National Parks Overflights Advisory Group (NPOAG) in March 2001. The NPOAG was formed to provide continuing advice and counsel with respect to commercial air tour operations over and near national parks. This notice informs the public of a vacancy on the NPOAG for a member representing air tour operator interests and invites interested persons to apply to fill the vacancy.

FOR FURTHER INFORMATION CONTACT: Barry Brayer, Executive Resource Staff, Western Pacific Region Headquarters, 15000 Aviation Blvd., Hawthorne, CA 90250, telephone: (310) 725-3800, E-mail: Barry.Brayer@faa.gov, or Howie Thompson, Natural Sounds Program, National Park Service, 12795 W. Alameda Parkway, Denver, Colorado, 80225, telephone: (303) 969-2461.

DATES: Persons interested in serving on the advisory group should contact Mr. Brayer or Mr. Thompson on or before May 19, 2003.

SUPPLEMENTARY INFORMATION:

Background

The National Parks Air Tour Management Act of 2000 (the Act) was enacted on April 5, 2000, as Pub. L. 106-181. The Act required the establishment of the advisory group within 1 year after its enactment. The advisory group is comprised of a balanced group of representatives of general aviation, commercial air tour operations, environmental concerns, and Native American tribes. The Administrator and the Director (or their designees) serve as ex officio members of the group. Representatives of the Administrator and Director serve alternating 1-year terms as chairman of the advisory group.

The advisory group provides “advice, information, and recommendations to the Administrator and the Director—

(1) On the implementation of this title [the Act] and the amendments made by this title;

(2) On commonly accepted quiet aircraft technology for use in commercial air tour operations over a national park or tribal lands, which will receive preferential treatment in a given air tour management plan;

(3) On other measures that might be taken to accommodate the interests of visitors to national parks; and

(4) At the request of the Administrator and the Director, safety, environmental, and other issues related to commercial air tour operations over a national park or tribal lands.”

Members of the advisory group may be allowed certain travel expenses as authorized by section 5703 of title 5, United States Code, for intermittent Government service.

The current NPOAG is made up of three members representing the air tour industry, four members representing environmental interests, and two members representing Native American interests. Current members of the NPOAG are: Heidi Williams, Aircraft Owners and Pilots Association; David Kennedy, National Air Transportation Association; Alan Stephen, Twin Otter/Grand Canyon Airlines; Chip Dennerlein, State of Alaska Fish and Game; Charles Maynard, formerly with Great Smoky Mountain National Park; Susan Gunn, The Wilderness Society; Steve Bosak, National Parks Conservation Association; and Germaine White and Richard Deertrack, representing Native American tribes.

Public Participation in the Advisory Group

In order to retain balance within the NPOAG, the FAA and NPS invite persons interested in serving on the NPOAG to represent air tour operator interests to contact either of the persons listed in FOR FURTHER INFORMATION CONTACT. Requests to serve on the NPOAG should be made in writing and postmarked on or before May 19, 2003. The request should indicate whether or not you are an air tour operator, member of an association representing this interest group, or have another affiliation with air tour operations over national parks. The request should also state what expertise you would bring to air tour operator interests while serving on the NPOAG. The term of service for NPOAG members is 3 years.

Issued in Washington, DC, on April 21, 2003.
Louis C. Cusimano,
Acting Director, Flight Standards Service, Federal Aviation Administration.

[FR Doc. 03-10288 Filed 4-25-03; 8:45 am]

BILLING CODE 4910-13-P